DEPARTMENT OF COMMERCE

National Oceanic and Atmospheric Administration

[I.D. 013103A]

Antarctic Marine Living Resources Convention Act of 1984; Conservation and Management Measures

AGENCY: National Marine Fisheries Service (NMFS), National Oceanic and Atmospheric Administration (NOAA), Commerce.

ACTION: Final notice.

SUMMARY: At its Twenty-first meeting in Hobart, Tasmania, October 21 to November 1, 2002, the Commission for the Conservation of Antarctic Marine Living Resources (the Commission or CCAMLR), of which the United States is a member, adopted conservation measures, pending members' approval, pertaining to fishing in the CCAMLR Convention Area in Antarctic waters. These have been agreed upon in accordance with Article IX of the Convention for the Conservation of Antarctic Marine Living Resources (the Convention) and are in effect with respect to the United States.

ADDRESSES: Copies of the CCAMLR measures and the framework environmental assessment may be obtained from the Assistant Administrator for Fisheries, NOAA, National Marine Fisheries Service, 1315 East-West Highway, Silver Spring, MD 20910.

FOR FURTHER INFORMATION CONTACT: Robin Tuttle, 301-713-2282.

SUPPLEMENTARY INFORMATION:

Background

See 50 CFR part 300, subpart G - Antarctic Marine Living Resources, and 67 FR 77876 (December 19, 2002).

The measures restrict overall catches and bycatch of certain species of fish, krill and crab; limit participation in several exploratory fisheries; restrict fishing in certain areas and to certain gear types; set fishing seasons; amend and clarify the catch documentation scheme for Dissostichus species; amend a previously adopted measure on the use of automated satellite-linked vessel monitoring systems (VMS) on Contracting Party vessels fishing in the Convention Area; and promote compliance by Contracting and non-Contracting Party vessels. Resolutions urge Member efforts to reduce illegal, unregulated and unreported (IUU) fishing in Convention Areas adjacent to high seas Statistical Areas 51 and 57 and by flags of non-compliance.

The measures and resolutions were announced by the Department of State by a preliminary notice in the Federal Register on December 19, 2002 (67 FR 77887). Public comments were invited, but none were received. Through this action, NMFS notifies the public that the United States has accepted the measures adopted at CCAMLR's twenty-first meeting, and that pursuant to the Convention and 16 U.S.C. 2431 et seq., these measures are in effect. For the full text of the measures adopted, see 67 FR 77887, December 19, 2002. NMFS provides the following summary of the measures as a courtesy.

Compliance

The Scheme to Promote Compliance by Non-Contracting Party Vessels with CCAMLR Conservation Measures is revised to establish a list of non-Contracting Party vessels (Vessel List) whose fishing activities in the Convention Area have diminished the effectiveness of CCAMLR conservation measures in force.

The Scheme to Promote Compliance by Contracting Party Vessels with CCAMLR Conservation Measures is a new measure. It requires the Commission to identify those Contracting Parties whose vessels have engaged in fishing activities in the Convention Area in a manner which has diminished the effectiveness of CCAMLR conservation measures in force, and to establish a list of such vessels (IUU Vessel List).

Measures regulating new and exploratory fisheries are revised to restrict access to these fisheries to vessels that are equipped and configured so that they can comply with all relevant conservation measures. A vessel with a confirmed involvement in IUU fishing with respect to the CCAMLR schemes to promote compliance by Contracting and non-Contracting Party vessels is not allowed to participate in these fisheries.

The measure on Port Inspections of Vessels Carrying Toothfish is revised to require that Contracting Parties promptly provide the CCAMLR Secretariat with a report on the outcomes of each inspection conducted under the conservation measure.

The measure requiring the use of an Automated Satellite-Linked Vessel Monitoring System on vessels fishing within the Convention Area is revised to require that both the hardware and software components of the VMS must be tamper proof, i.e., must not permit the input or output of false positions nor be capable of being manually overridden. In addition, Contracting Parties may not issue licenses to fish in the Convention Area unless the VMS used on licensed vessels complies with every specification of the conservation measure.

The Commission adopted a resolution on Flags of Non-Compliance (FONC), urging all Contracting and non-Contracting Parties cooperating with the Commission to: (1) without prejudice to the primacy of the responsibility of the Flag State, to take measures or otherwise cooperate to ensure, to the greatest extent possible, that the nationals subject to their jurisdiction do not support or engage in IUU fishing, including engagement on board FONC vessels in the Convention Area is this is consistent with their national law; (2) ensure the full cooperation of their relevant national agencies and industries in implementing the measures adopted by CCAMLR: (3) develop ways to ensure that the export or transfer of fishing vessels from their State to FONC State is prohibited; and (4) prohibit the landings and transhipments of fish and fish products from FONC vessels.

Catch Documentation Scheme (CDS)

The CDS measure is revised in two ways. First, it requires that the master of a vessel completing a Dissostichus Catch Document(DCD)indicate whether a Dissostichus catch was caught in an Exclusive Economic Zone or on the high seas, as appropriate. Second, the Flag State can only issue a DCD confirmation number when it is convinced that the information submitted by the vessel requesting the confirmation number fully satisfies the provisions of the CDS conservation measure.

Incidental Mortality of Seabirds

The measure to minimize the incidental mortality of seabirds in the course of longline fishing or longline fishing research is amended to require that fishers remove fish hooks from all discarded material, including offal and fish heads.The Commission adopted minor changes to the bottle test in the experimental line-weighting trials required in all longline fisheries.

Research Vessel Activity

The conservation measure specifying the application of CCAMLR conservation measures to scientific research is revised to include a taxa-specific schedule for use by Members in notifying the CCAMLR Secretariat of research vessel activity.

Krill

Data requirements for the fisheries for Euphausia superba (krill) in Statistical Area 48 and Statistical Divisions 58.4.1 and 58.4.2 are revised to require that each Contracting Party obtain from each of its vessels the data required to complete the CCAMLR fine-scale catch and effort data form for trawl fisheries and that it aggregate these data monthly by 10 x 10 nautical mile rectangle and 10-day periods and transmit them to the CCAMLR Secretariat no late that 1 April of the following year. While fishers have been required previously to collect this data, Contracting Parties have not routinely provided it to the CCAMLR Secretariat.

Crab

The Commission eliminated a measure requiring fishers to process crab sections on board.

Champsocephalus gunnari

The Commission set the overall catch limit for C.gunnari in Statistical Subarea 48.3 for the 2002/2003 season at 2,181 tons, and otherwise continued previously adopted restrictions on the fishery.

The Commission set the catch limit for C. gunnari within defined areas of Statistical Division 58.5.2 for the 2002/03 season 2,980 tons and otherwise continued previously adopted restrictions on the fishery.

Electrona carlsbergi

The Commission set the catch limit for E. carlsbergiin Statistical Subarea 48.3 at 109,000 tons for the 2002/03 season. A special provision for Shag Rocks applies.

Dissostichus species

The Commission prohibited directed fishing for Dissostichus species in Statistical Subareas 48.5, 88.2 north of 65°S and 88.3, and Divisions 58.4.1, 58.5.1 and 58.5.2 outside the French EEZ and east of 79° 20′E outside the Australian EEZ from December 1, 2002 to November 30, 2003.

The Commission prohibited directed fishing for Dissostichus species in Statistical Division 58.4.4 and Subarea 58.6 outside areas of national jurisdiction until such time that further scientific information is gathered and reviewed by the Working Group on Fish Stock Assessment and the Scientific Committee.

The Commission amended the general measures for exploratory fishing for Dissostichus species to limit longline soak times, except in the case of exceptional circumstances beyond the control of a vessel, to 48 hours, measured from the completion of the setting process to the beginning of the hauling process. In addition, the measure was modified to more precisely define the fine-scale rectangle within which vessels are to fish.

The Commission set the catch limit for the longline fishery for D. eleginoides in Subarea 48.3 in the 2002/03 season at 7,810 tons, counting any catch of D. eleginoides taken in other fisheries in Subarea 48.3 against the catch limit.

The Commission set the catch limit for trawl fishing in Division 58.5.2 during the December 1, 2002, to November 30, 2003, season and for longline fishing for D. eleginoides in Division 58.5.2 west of 79°20′E from May 1, 2003 to August 31, 2003, at 2,879 tons. This is the first season a longliner may operate in this fishery.

The Commission approved several fisheries as exploratory fisheries for the 2002/03 fishing season. These fisheries are limited total allowable catch (TAC) fisheries and are open only to the flagged vessels of the countries that notified CCAMLR of an interest by participants in the fisheries. The United States was not a notifying country, and, thus, U.S. fishers are not eligible to participate in them.

The exploratory fisheries for Dissostichus species are for longline fishing in Statistical Subarea 48.6 by Japan, New Zealand, South Africa and Uruguay; longline fishing in Statistical Division 58.4.2 by Australia; longline fishing in 58.4.3a (the Elan Bank) outside areas under national jurisdiction by Australia and Japan; longline fishing in Statistical Division 58.4.3b (the BANZARE Bank) by Australia and Japan; longline fishing in Statistical Subarea 88.1 by Japan, New Zealand, Russia, South Africa and Spain; longline fishing in Statistical Subarea 88.2 by Japan, New Zealand and South Africa.

The Commission extended the limitations on bycatch in new and exploratory fisheries in 58.5.2 for the 2002/03 season.

The Commission limited the bycatch of Macrourus species, skates and rays and other species in new and exploratory fisheries small-scale research units for Dissostichus in Statistical Area 48.6, Statistical Divisions 58.4.2, 58.4.3a, 58.4.3b, and Statistical Areas 88.1 and 88.2 for the 2002/03 season.

The Commission adopted a resolution relating to Harvesting D. eleginoides in Areas Outside of Coastal State Jurisdiction Adjacent to the CCAMLR Area in FAO Statistical Areas 51 and 57. The resolution recommends that Members provide data and other information, subject to their laws and regulations, relevant to understanding the biology and estimating the status of stocks in these areas. It also recommends that Members take steps necessary to conduct only that level of toothfish harvesting in these areas, which will ensure the conservation of this species in the Convention Area.

Authority: 16 U.S.C. 2431 et seq.

Dated: February 7, 2003.
William T. Hogarth,
Assistant Administrator for Fisheries, National Marine Fisheries Service.

[FR Doc. 03-3590 Filed 2-12-03; 8:45 am]

BILLING CODE 3510-22-S